DEPARTMENT OF THE INTERIOR

National Park Service

[NPS-WASO-NAGPRA-NPS0033282; PPWOCRADN0-PCU00RP14.R50000]

Notice of Inventory Completion: San Bernardino County Museum, Redlands, CA; Correction

AGENCY: National Park Service, Interior.

ACTION: Notice; correction.

SUMMARY: The San Bernardino County Museum (SBCM) has corrected an inventory of human remains and associated funerary objects, published in a Notice of Inventory Completion in the Federal Register on April 27, 2021. This notice corrects the minimum number of individuals and the number of associated funerary objects. Lineal descendants or representatives of any Indian Tribe or Native Hawaiian organization not identified in this notice that wish to request transfer of control of these human remains and associated funerary objects should submit a written request to the San Bernardino County Museum. If no additional requestors come forward, transfer of control of the human remains and associated funerary objects to the lineal descendants, Indian Tribes, or Native Hawaiian organizations stated in this notice may proceed.

DATES: Lineal descendants or representatives of any Indian Tribe or Native Hawaiian organization not identified in this notice that wish to request transfer of control of these human remains and associated funerary objects should submit a written request with information in support of the request to the San Bernardino County Museum at the address in this notice by February 22, 2022.

FOR FURTHER INFORMATION CONTACT: Tamara Serrao-Leiva, San Bernardino County Museum, 2024 Orange Tree Lane, Redlands, CA 92374, telephone (909) 798-8623, email tserrao-leiva@sbcm.sbcounty.gov.

SUPPLEMENTARY INFORMATION: Notice is here given in accordance with the Native American Graves Protection and Repatriation Act (NAGPRA), 25 U.S.C. 3003, of the correction of an inventory of human remains and associated funerary objects under the control of the San Bernardino County Museum, Redlands, CA. The human remains and associated funerary objects were removed from Riverside County, CA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals and the number of associated funerary objects published in a Notice of Inventory Completion in the Federal Register on April 27, 2021 (86 FR 22259-22261, April 27, 2021). A re-inventory discovered additional human remains and associated objects. Transfer of control of the items in this correction notice has not occurred.

Correction

In the Federal Register (86 FR 22260, April 27, 2021, FR Doc 2021-08775), page 22248, column 3, under History and Description of the Remains, paragraphs 1 and 2, are corrected by substituting the following paragraphs:

On January 24, 1965 and August 28 1967, human remains representing, at minimum, three individuals were recorded and removed from the Meadowbrook site complex, comprised of SBCM-607 (CA-RIV-711, CA-RIV-713), SBCM-606 (RIV-707), SBCM 607 (RIV-711, RIV-713), SBCM-609 (RIV-710 and RIV-709), SBCM-610 (RIV-712), SBCM-611 (RIV-714), and then illegally graded in Aug 1992 at sites SBCM-1559 (RIV-704) and SBCM 1561 (RIV-325) just south of Good Hope Mine (site of the “Good Hope Mine” burial site) in Perris, Riverside County, CA. Dr. Niewoehner, a physical anthropologist at California State University, San Bernardino, who assisted SBCM in the inventory, identified a human phalanx and a metatarsal in SBCM 607. Myra Maisel from Pechanga Band of Luiseno Mission Indians assisted in an inventory in Aug 2021 identified 10 pieces of an infant cranium in SBCM 607 and one human vertebrae and rib bone in SBCM 611. No known individuals were identified. The 31 associated funerary objects include one lot of faunal, one lot of soil, one lot of bone awls, one lot of shell, one lot of pendants and pendant fragments, one lot of pottery sherds, one lot of projectile points and point fragments, one lot of tourmaline fragments, one lot of personal stones, one lot of bifaces and biface fragments, one lot of flake tools, one lot of flakes, one lot of core tools, one lot of cores, one lot of hammerstones, one lot of manos and mano fragments, one lot of ground stone and ground stone fragments, one lot of pestles and pestle fragments, one lot of bowl fragments, one granitic metate, one metate basin, one arrow straightener, one lot of mixed faunal bone, one lot of red ochre, one lot of yellow ochre, one lot of wood and charcoal, one piece of historic glass, one lot of historic metal, one knife blade, one heating stone, and one palm.

The Meadowbrook site complex is part of the large village complex directly adjacent to the Pechanga Indian Reservation. It appears in a Sacred Lands File of the California Native American Heritage Commission as a Pechanga traditional cultural property. Moreover, the Native American Heritage Commission has named the Pechanga as the most likely descendant Indian Tribe for human remains removed from another location near Meadowbrook.

In the Federal Register (86 FR 22261, April 27, 2021, FR Doc 2021-08775, page 22249), column 2, (under the heading “Determinations Made by the San Bernardino County Museum”) is corrected by substituting the following sentences:

• Pursuant to 25 U.S.C. 3001(9), the human remains described in this notice represent the physical remains of 10 individuals of Native American ancestry.

• Pursuant to 25 U.S.C. 3001(3)(A), the 58 objects described in this notice are reasonably believed to have been placed with or near individual human remains at the time of death or later as part of the death rite or ceremony.

Additional Requestors and Disposition

Lineal descendants or representatives of any Indian Tribe or Native Hawaiian organization not identified in this notice that wish to request transfer of control of these human remains and associated funerary objects should submit a written request with information in support of the request to Tamara Serrao-Leiva, San Bernardino County Museum, 2024 Orange Tree Lane, Redlands, CA 92374, telephone (909) 798-8623, email tserrao-leiva@sbcm.sbcounty.gov, by February 22, 2022. After that date, if no additional requestors have come forward, transfer of control of the human remains and associated funerary objects to the Indian Tribes referred to in the April 27, 2021 notice as “The Affiliated Tribes” may proceed.

The San Bernardino County Museum is responsible for notifying the Indian Tribes referred to in the April 27, 2021 notice as “The Consulted and Invited Tribes” and “The Affiliated Tribes” that this notice has been published.

Dated: January 12, 2022.
Melanie O'Brien,
Manager, National NAGPRA Program.

[FR Doc. 2022-01037 Filed 1-19-22; 8:45 am]

BILLING CODE 4312-52-P